DEPARTMENT OF THE INTERIOR

National Park Service

Notice of Availability of Draft General Management Plan/Environmental Impact Statement (DGMP/EIS) for the Cane River Creole National Historical Park, Located in Natchitoches Parish, LA

SUMMARY: Pursuant to Section 102(2)(c) of the National Environmental Policy Act of 1969 (16 U.S.C. 410ccc-4; 42 U.S.C. 4371; 40 CFR 1503), the National Park Service (NPS) announces the availability of the DGMP/EIS. The DGMP/EIS responds to Public Law 103-449 establishing Cane River Creole National Historical Park.

The DGMP/EIS has been prepared in cooperation with the Cane River National Heritage Area Commission. It presents a proposal and four alternative strategies for guiding future management of the national historical park and balancing resource protection and public use. It includes an analysis of the potential consequences of these actions. The major subject areas are cultural resources management, visitor experience, future development, and partnership opportunities.

DATES: Written comments concerning the DGMP/EIS should be received no later than August 14, 2000.

ADDRESSES: Writtem comments concerning the DGMP/EIS or requests to be added to the project mailing list should be sent to Ms. Laura Soulliere, Superintendent, Cane River Creole National Historical Park, 4386 Highway 494, Natchez, LA 71456.

The DGMP/EIS can be reviewed on the NPS Planning Website at http://www.nps.gov/planning.

See SUPPLEMENTARY INFORMATION section for locations of public reading copies of the DGMP/EIS.

FOR FURTHER INFORMATION CONTACT: Laura Soulliere, Superintendent, Cane River Creole National Historical Park, at (318) 352-0383, or cari_superintendent@nps.gov.

SUPPLEMENTARY INFORMATION: Commenters should be aware that National Park Service practice is to make comments, including names and home addresses of respondents, available for public review during regular business hours. Individual commenters may request that we withhold their home address from the planning record, which we will honor to the extent allowable by law. There also may be circumstances in which we would withhold from the planning record a respondent's identity, as allowable by law. If you wish us to withhold your name and/or address, you must state this prominently at the beginning of your comment. We will make all submissions from organizations or businesses, and from individuals identifying themselves as representatives or officials of organizations or businesses, available for public inspection in their entirety.

Public meetings will be held in Natchitoches and the Cane River area. The meetings will provide the public additional opportunities to comment on the DGMP/EIS. Information on meeting dates, times, and locations will be provided in advance through announcements in local newspapers and other media. For more information on upcoming public meetings, contact the park superintendent.

Public reading copies of the DGMP/EIS will be available for review at the following locations;

Cane River Creole National Historical Park, 4386 Highway 494, Natchez, LA

Natchitoches Parish Library, 431 Jefferson Street, Natchitoches, LA

Book Merchant, 512 Front Street, Natchitoches, LA

Asbury United Methodist Church, 704 5th Street, Natchitoches, LA

St. Augustine Historical Society, c/o St. Augustine Catholic Church (office), 2262 Highway 484, Cane River, LA

Northwestern State University Campus, 715 College Avenue

• Watson Library, Special Collections

• National Center for Preservation Training and Technology

Keyser Hall, Louisiana Creole Heritage Center

Dated: June 7, 2000.
Val Knight,
Acting Regional Director, Southeast Region.

[FR Doc. 00-15234 Filed 6-15-00; 8:45 am]

BILLING CODE 4310-70-M